DEPARTMENT OF LABOR

Employment and Training Administration

Investigations Regarding Eligibility To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of August 1 2021 through August 31 2021.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, chapter 2, of the Act. Any persons showing a substantial interest in the subject matter of the investigations may request a public hearing provided such request is filed in writing with the Administrator, Office of Trade Adjustment Assistance, at the address shown below, no later than ten days after publication in Federal Register.

Initial Investigations

The following are initial investigations commenced following the receipt of a properly filed petition.

TA-W No. | Workers' firm | Location | Investigation start date
98021 | Commemorative Brands, Inc | Austin, TX | 8/3/2021
98022 | Symbol Mattress of Florida | Kissimmee, FL | 8/3/2021
98023 | Honeywell Building Technologies-Fire & Security, Integrated Supply Chain | Northford, CT | 8/4/2021
98024 | NCR Corporation | Atlanta, GA | 8/4/2021
98025 | Oceana Foods | Shelby, MI | 8/4/2021
98026 | Southern Graphic Systems Inc | Minneapolis, MN | 8/5/2021
98027 | Rackspace, US, Inc | Windcrest, TX | 8/6/2021
98028 | Interdyne, Inc | Jonesville, MI | 8/11/2021
98029 | RealPage, Inc | Richardson, TX | 8/13/2021
98030 | The Coleman Company Inc | Sauk Rapids, MN | 8/13/2021
98031 | Augusta Sportswear | Coburg, OR | 8/16/2021
98032 | Fall Creek Farm and Nursery, Inc | Lowell, OR | 8/16/2021
98033 | LargeWords | Blue Springs, MO | 8/18/2021
98034 | Trinity Tank Car, Inc | Longview, TX | 8/18/2021
98035 | AT&T Corporate Offices | Bothell, WA | 8/19/2021
98036 | NTT DATA Services, LLC | Plano, TX | 8/19/2021
98037 | Truck Accessories Group, LLC | Long Beach, CA | 8/19/2021
98038 | Genpact LLC | Jacksonville, FL | 8/20/2021
98039 | Siemens Energy USA | Orlando, FL | 8/20/2021
98040 | Honeywell Aerospace | Phoenix, AZ | 8/25/2021
98041 | Greystar Management | Phoenix, AZ | 8/26/2021
98042 | Stellantis | Belvidere, IL | 8/26/2021
98043 | Rackspace Technology | Elk Grove, IL | 8/30/2021
98044 | Legrand | Orem, UT | 8/31/2021
98045 | Occidental Chemical Corporation | Niagara Falls, NY | 8/31/2021
98046 | Revel Apparel | Greensboro, NC | 8/31/2021

A record of these investigations and petitions filed are available, subject to redaction, on the Department's website https://www.dol.gov/agencies/eta/tradeact under the searchable listing or by calling the Office of Trade Adjustment Assistance toll free at 888-365-6822.

Signed at Washington, DC, this 17th day of September 2021.
Hope D. Kinglock,
Certifying Officer, Office of Trade Adjustment Assistance.

[FR Doc. 2021-20951 Filed 9-27-21; 8:45 am]

BILLING CODE 4510-FN-P